ENVIRONMENTAL PROTECTION AGENCY

[FRL-9918-32-OA]

Notification of a Closed Teleconference of the Science Advisory Board's Scientific and Technological Achievement Awards Committee

AGENCY: Environmental Protection Agency (EPA).

ACTION: Notice.

SUMMARY: The Environmental Protection Agency's (EPA), Science Advisory Board (SAB) Staff Office is announcing a teleconference of the SAB's Scientific and Technological Achievement Awards (STAA) Committee to discuss draft recommendations for the chartered SAB regarding the Agency's 2013 and 2014 STAA recipients. The STAA Committee teleconference will be closed to the public.

DATES: The STAA Committee teleconference date is Friday, November 7, 2014, from 1:00 p.m. to 4:00 p.m. (Eastern Time).

ADDRESSES: The SAB STAA Committee closed teleconference will take place via telephone only. General information about the SAB may be found on the SAB Web site at http://www.epa.gov/sab.

FOR FURTHER INFORMATION CONTACT: Members of the public who wish to obtain further information regarding this announcement may contact Edward Hanlon, Designated Federal Officer, by telephone: (202) 564-2134 or email at hanlon.edward@epa.gov.

SUPPLEMENTARY INFORMATION: Pursuant to section 10(d) of the Federal Advisory Committee Act (FACA), 5 U.S.C. App. 2, and section (c)(6) of the Government in the Sunshine Act, 5 U.S.C. 552b(c)(6), the EPA has determined that the STAA Committee teleconference will be closed to the public. The purpose of the teleconference is for the SAB STAA Committee to continue discussion of draft recommendations for the chartered SAB regarding recipients of the Agency's 2013 and 2014 Scientific and Technological Achievement Awards.

The STAA Committee discussion will have two parts. The first part of the discussion will focus on review of additional agency recommendations for the 2013 awards. Although the chartered SAB reviewed the Agency's 2013 STAA nominations and provided advice regarding those nominations in January 2014 (for more information, see http://yosemite.epa.gov/sab/sabproduct.nsf/fedrgstr_activites/2013%20STAA%20Review?OpenDocument), the Agency later identified additional nominations for SAB review. The second part of the SAB STAA Committee discussion will allow the Committee to continue its review begun on July 28, 2014 (79 FR 38314) of the Agency's 2014 STAA nominations (for more information, see http://yosemite.epa.gov/sab/sabproduct.nsf/fedrgstr_activites/2014%20STAA%20Review?OpenDocument).

The STAA awards are established to honor and recognize EPA employees who have made outstanding contributions in the advancement of science and technology through their research and development activities, as exhibited in publication of their results in peer reviewed journals. I have determined that the STAA Committee teleconference will be closed to the public because it is concerned with recommending employees deserving of awards. In making these draft recommendations, the SAB requires full and frank advice from the STAA Committee. This advice will involve professional judgments on the relative merits of various employees and their respective work. Such personnel matters involve the discussion of information that is of a personal nature and the disclosure of which would be a clearly unwarranted invasion of personal privacy and, therefore, are protected from disclosure by section (c)(6) of the Government in the Sunshine Act, 5 U.S.C. 552b(c)(6). Minutes of the STAA Committee teleconference will be kept and certified by the chair.

Dated: October 8, 2014.
Gina McCarthy,
Administrator.

[FR Doc. 2014-25002 Filed 10-20-14; 8:45 am]

BILLING CODE 6560-50-P